DEPARTMENT OF ENERGY

Federal Energy Regulatory Commission

[Project No. 199-205]

South Carolina Public Service Authority; Santee Cooper Hydroelectric Project; Notice of Proposed Restricted Service List for a Programmatic Agreement for Managing Properties Included in or Eligible for Inclusion in the National Register of Historic Places

December 13, 2007.

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 cfr 385.2010.

The Commission staff is consulting with the South Carolina State Historic Preservation Officer (hereinafter, SHPO) and the Advisory Council on Historic Preservation (hereinafter, Council) pursuant to the Council's regulations, 36 CFR part 800, implementing Section 106 of the National Historic Preservation Act, as amended, (16 U.S.C. 470f), to prepare and execute a programmatic agreement for managing properties included in, or eligible for inclusion in, the National Register of Historic Places at Project No. 199.

The programmatic agreement, when executed by the Commission and the SHPO, would satisfy the Commission's Section 106 responsibilities for all individual undertakings carried out in accordance with the license until the license expires or is terminated (36 CFR 800.13[e]). The Commission's responsibilities pursuant to Section 106 for the Santee Cooper Hydroelectric Project would be fulfilled through the programmatic agreement, which the Commission proposes to draft in consultation with certain parties listed below. The executed programmatic agreement would be incorporated into any Order issuing a license.

South Carolina Public Service Authority, as licensee for Project No. 199, is invited to participate in consultations to develop the Programmatic Agreement and to sign as a concurring party to the Programmatic Agreement.

For purposes of commenting on the Programmatic Agreement, we propose to restrict the service list for Project No. 199-205 as follows:

Dr. Laura Henley Dean, Advisory Council on Historic Preservation, The Old Post Office Building, Suite 803, 1100 Pennsylvania Avenue, NW., Washington, DC 20004

Dr. Rodger E. Stroup, SHPO, or Representative, Department of Archives & History, 8301 Parklane Road, Columbia, SC 29223-4905

Dr. James T. Kardatzke, Bureau of Indian Affairs, Eastern Regional Office, 545 Marriott Drive, Suite 700, Nashville, TN 37214

Russell Townsend or Representative, Tribal Historic Preservation Officer, Eastern Band of Cherokee Indians, Cultural Resources Department, Qualla Boundary P.O. Box 455, Cherokee, NC 28719

Dr. Wenonah G. Haire, or Representative, Tribal Historic Preservation Officer, Catawba Indian Nation, Catawba Cultural Preservation Project, P.O. Box 750, Rock Hill, SC 29731

Charles D. Enyart, Chief, or Representative, Eastern Shawnee Tribe of Oklahoma, P.O. Box 350, Seneca, MO 64804

Emman Spain or Representative, Tribal Historic Preservation Officer, Seminole Nation of Oklahoma, P.O. Box 1498, Wewoka, OK 74884

John C. Dulude, P.E., Manager, FERC Relicensing, South Carolina Public Service Authority, One Riverwood Drive, P.O. Box 2946101, Moncks Corner, SC 29461-6101

Richard H. Kimmel, Archaeologist, Environmental Resources Section, US Army Corps of Engineers, PO Box 1890, Wilmington, NC 28402

Amanda Hill, U.S. Fish & Wildlife Service, Charleston Field Office, 176 Croghan Spur Road, Suite 200, Charleston, SC 29407

Robert Morgan, Heritage Program Manager, Francis Marion & Sumter National Forests, 2421 Witherbee Road, Cordesville, SC 29434

Any person on the official service list for the above-captioned proceedings may request inclusion on the restricted service list, or may request that a restricted service list not be established, by filing a motion to that effect within 15 days of this notice date.

An original and 8 copies of any such motion must be filed with the Secretary of the Commission (888 First Street, NE., Washington, DC 20426) and must be served on each person whose name appears on the official service list.

If no such motions are filed, the restricted service list will be effective at the end of the 15 day period. Otherwise, a further notice will be issued ruling on the motion.

Kimberly D. Bose,
Secretary.

[FR Doc. E7-24664 Filed 12-19-07; 8:45 am]

BILLING CODE 6717-01-P